UNIFIED CARRIER REGISTRATION PLAN

Sunshine Act Meetings

TIME AND DATE: August 13, 2024, 2:00 p.m. to 5:00 p.m., Eastern time.

PLACE: This meeting will take place at the Hotel Indigo Traverse City 263 W Grandview Parkway, Traverse City, MI 49684. The meeting will also be accessible via conference call and via Zoom Meeting and Screenshare. Any interested person may call (i) 1-929-205-6099 (US Toll) or 1-669-900-6833 (US Toll), Meeting ID: 962 8943 3049, to listen and participate in this meeting. The website to participate via Zoom Meeting and Screenshare is https://kellen.zoom.us/meeting/register/tJIvf-CsrTgqHt3AXCQvu_OwmzBsi8qZzi8H.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

➢ Subcommittee action only to be taken in designated areas on agenda

IV. Review and Approval of Subcommittee Minutes From the April 5, 2024, Meeting—UCR Enforcement Subcommittee Chair

For Discussion and Possible Subcommittee Action

Draft minutes from the April 5, 2024, Subcommittee meeting in Savannah, GA will be reviewed. The Subcommittee will consider action to approve.

V. Review of Enforcement Rates—UCR Enforcement Subcommittee Chair, UCR Enforcement Subcommittee Vice-Chair

The Subcommittee Chair will review a variety of tools and activities undertaken in 2024 to conduct enforcement activities in the states.

VI. Discussion on Nonparticipating State Enforcement—UCR Enforcement Subcommittee Chair, UCR Enforcement Subcommittee Vice-Chair

The Subcommittee Chair will lead a discussion on enforcement limitations in nonparticipating states.

VII. Discussion of Roadside Enforcement for Carriers Who are Under-Registered—UCR Enforcement Subcommittee Chair, UCR Enforcement Subcommittee Vice-Chair, and Representatives From Seikosoft

The Subcommittee Chair will lead a discussion on the possibility of roadside enforcement for carriers who have been identified as under-registered.

VIII. Discussion and Review of the Current UCR Agreement Pertaining to Enforcement—UCR Enforcement Subcommittee Chair, UCR Enforcement Subcommittee Vice-Chair

The Subcommittee Chair will lead a discussion on possible future language suggestions as it relates to the UCR agreement.

IX. Inspector Award for Annual UCR Enforcement—UCR Enforcement Subcommittee Chair, UCR Enforcement Subcommittee Vice-Chair

For Discussion and Possible Subcommittee Action

The Subcommittee Chair will lead a discussion on the possibility of establishing an annual Inspector award for excellence in UCR Enforcement.

X. 2025 UCR Awareness Initiatives—UCR Enforcement Subcommittee Chair, UCR Enforcement Subcommittee Vice-Chair

For Discussion and Possible Subcommittee Action

The Subcommittee Chair will lead a discussion of and determine dates for the 2025 UCR Awareness Initiatives.

XI. Enforcement Training PPT Development—UCR Enforcement Subcommittee Chair, UCR Enforcement Subcommittee Vice-Chair

The Subcommittee Chair will provide an update on the progress of the creation of the enforcement training PowerPoint as an additional resource for Law Enforcement.

XII. Other Business—UCR Enforcement Subcommittee Chair

The Subcommittee Chair will call for any other items Subcommittee members would like to discuss.

XIII. Adjournment—UCR Enforcement Subcommittee Chair

The Subcommittee Chair will adjourn the meeting.

The agenda will be available no later than 5:00 p.m. Eastern time, August 5, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-17776 Filed 8-6-24; 4:15 pm]

BILLING CODE 4910-YL-P